DEPARTMENT OF COMMERCE

International Trade Administration

[A-570-106]

Wooden Cabinets and Vanities and Components Thereof From the People's Republic of China: Antidumping Duty Order

AGENCY: Enforcement and Compliance, International Trade Administration, Department of Commerce.

SUMMARY: Based on affirmative final determinations by the Department of Commerce (Commerce) and the International Trade Commission (ITC), Commerce is issuing an antidumping duty order on wooden cabinets and vanities and components thereof (wooden cabinets and vanities) from the People's Republic of China (China).

DATES: Applicable April 21, 2020.

FOR FURTHER INFORMATION CONTACT: Rachel Greenberg, AD/CVD Operations, Office V, Enforcement and Compliance, International Trade Administration, U.S. Department of Commerce, 1401 Constitution Avenue NW, Washington, DC 20230; telephone: (202) 482-0652.

SUPPLEMENTARY INFORMATION:

Background

In accordance with section 735(d) of the Tariff Act of 1930, as amended (the Act), and 19 CFR 351.210(c), Commerce published its affirmative final determination in the less-than-fair-value (LTFV) investigation of wooden cabinets and vanities from China.¹ On April 13, 2020, the ITC notified Commerce of its final determination that an industry in the United States is materially injured within the meaning of section 735(b)(1)(A)(i) of the Act by reason of LTFV imports of wooden cabinets and vanities from China.²

¹ See Wooden Cabinets and Vanities and Components Thereof from the People's Republic of China: Final Determination of Sales at Less Than Fair Value, 85 FR 11953 (February 28, 2020) (Final Determination) as corrected by Wooden Cabinets and Vanities and Components Thereof from the People's Republic of China: Corrected Notice of Final Affirmative Determination of Sales at Less Than Fair Value, 85 FR 17855 (March 31, 2020).

² See Letter to Jeffrey Kessler, Assistant Secretary of Commerce for Enforcement and Compliance, from David S. Johanson, Chairman of the U.S. International Trade Commission, dated April 13, 2020 (ITC Letter).

Scope of the Order

The products covered by this order are wooden cabinets and vanities from China. For a complete description of the scope of this order, see the Appendix to this notice.

Antidumping Duty Order

On April 13, 2020, in accordance with section 735(d) of the Act, the ITC notified Commerce of its final determination in this investigation, in which it found that an industry in the United States is materially injured within the meaning of section 735(b)(1)(A)(i) of the Act by reason of imports of wooden cabinets and vanities from China sold at LTFV. Therefore, in accordance with sections 735(c)(2) and 736 of the Act, Commerce is issuing this antidumping duty order. Because the ITC determined that imports of wooden cabinets and vanities from China are materially injuring a U.S. industry, unliquidated entries of such merchandise from China, entered or withdrawn from warehouse for consumption, are subject to the assessment of antidumping duties.

Therefore, in accordance with section 736(b)(1) of the Act, Commerce will instruct U.S. Customs and Border Protection (CBP) to assess, upon further instruction by Commerce, antidumping duties equal to the amount by which the normal value of the wooden cabinets and vanities from China exceeds the export price (or constructed export price) of the subject merchandise, for all relevant entries of wooden cabinets and vanities from China which are entered, or withdrawn from warehouse, for consumption on or after October 9, 2019, the date of publication of the Preliminary Determination, but will not include entries occurring after the expiration of the provisional measures period and before the date of publication of the ITC's final affirmative determination under section 735(b) of the Act as further described below.³

³ See Wooden Cabinets and Vanities and Components Thereof from the People's Republic of China: Preliminary Affirmative Determination of Sales at Less Than Fair Value, Postponement of Final Determination and Extension of Provisional Measures, 84 FR 54106 (October 9, 2019) (Preliminary Determination), and accompanying Preliminary Decision Memorandum, as corrected by Wooden Cabinets and Vanities and Components Thereof from the People's Republic of China: Preliminary Affirmative Determination of Sales at Less than Fair Value, Postponement of Final Determination and Extension of Provisional Measures, 84 FR 56420 (October 22, 2019) as amended by Wooden Cabinets and Vanities and Components Thereof from the People's Republic of China: Amended Preliminary Determination of Sales at Less Than Fair Value, 84 FR 61875 (November 14, 2019).

Suspension of Liquidation

In accordance with section 736 of the Act, Commerce will instruct CBP to suspend liquidation of all appropriate entries of wooden cabinets and vanities from China as described in the Appendix to this notice which are entered, or withdrawn from warehouse, for consumption on or after the date of publication of the ITC's notice of final determination in the Federal Register. We will also instruct CBP to require, at the same time as importers would normally deposit estimated customs duties on the subject merchandise, a cash deposit of antidumping duties based on the rates listed below. These instructions suspending liquidation will remain in effect until further notice. The China-wide entity rate applies to all producers or exporters not specifically listed below. As stated in the Final Determination, Commerce made certain adjustments to the estimated weighted-average dumping margin for export subsidies from the companion countervailing duty investigation final determination to determine each of the cash deposit rates.⁴

⁴ See Final Determination, 85 FR at 11961.

Exporter | Producer | Estimated weighted- average dumping margin (percent) | Cash deposit rate (adjusted for subsidy offsets) (percent)
The Ancientree Cabinet Co., Ltd | The Ancientree Cabinet Co., Ltd | 4.37 | 0.00
Dalian Meisen Woodworking Co., Ltd | Dalian Meisen Woodworking Co., Ltd | 262.18 | 251.64
Foremost Worldwide Company Limited | Rizhao Foremost Woodwork Manufacturing Company, Ltd | 101.46 | 90.92
Foremost Worldwide Company Limited | Henan AiDiJia Furniture Co., Ltd | 101.46 | 90.92
Foremost Worldwide Company Limited | Suzhou Weiye Furniture Co., Ltd | 101.46 | 90.92
Foremost Worldwide Company Limited | Changsha Minwan Furniture Manufacturing Co., Ltd | 101.46 | 90.92
ANHUI JIANLIAN WOOD PRODUCTS CO., LTD | ANHUI JIANLIAN WOOD PRODUCTS CO., LTD | 48.50 | 37.96
Anhui Swanch Cabinetry Co., Ltd | Anhui Swanch Cabinetry Co., Ltd | 48.50 | 37.96
ANHUI XINYUANDA CUPBOARD CO., LTD | ANHUI XINYUANDA CUPBOARD CO., LTD | 48.50 | 37.96
Beijing Oulu Jinxin International Trade Co., Ltd | Beijing Oulu Jinxin International Trade Co., Ltd | 48.50 | 37.96
Boloni Smart Home Decor (Beijing) Co., LTD | Boloni Smart Home Decor (Beijing) Co., LTD | 48.50 | 37.96
BRENTRIDGE HOLDING CO., LTD | ZHOUSHAN FOR-STRONG WOOD CO., LTD | 48.50 | 37.96
Caoxian Brothers Hengxin Wood Industry Co., Ltd | Caoxian Brothers Hengxin Wood Industry Co., Ltd | 48.50 | 37.96
Changyi Zhengheng Woodwork Co., Ltd | Changyi Zhengheng Woodwork Co., Ltd | 48.50 | 37.96
CHAOZHOU YAFENG BATHROOM EQUIPMENT CO., LTD | CHAOZHOU YAFENG BATHROOM EQUIPMENT CO., LTD | 48.50 | 37.96
China Friend Limited | Dongming Sanxin Wood Industry Co., Ltd | 48.50 | 37.96
Dalian Jiaye Wood Products Co., Ltd | Dalian Jiaye Wood Products Co., Ltd | 48.50 | 37.96
Dalian Xingsen Wooden Products Co., Ltd | Dalian Xingsen Wooden Products Co., Ltd | 48.50 | 37.96
Dandong City Anmin Wooden Products Group Co., Ltd | Dandong City Anmin Wooden Products Group Co., Ltd | 48.50 | 37.96
Dandong Laroyal Cabinetry Co., Ltd | Dandong Laroyal Cabinetry Co., Ltd | 48.50 | 37.96
DEHK LIMITED | DIAM DISPLAY (CHINA) CO., LTD | 48.50 | 37.96
Deqing China-Africa Foreign Trade Port Co., Ltd | Suqian Welcomewood Products Co., Ltd | 48.50 | 37.96
Dewell Wooden Products Haian Co., Ltd | Dewell Wooden Products Haian Co., Ltd | 48.50 | 37.96
Dongguan American Parts Supplier Co., Ltd | Dongguan American Parts Supplier Co., Ltd | 48.50 | 37.96
Dongguan Niusaiqu Wood Industry Co., Ltd | Dongguan Niusaiqu Wood Industry Co., Ltd | 48.50 | 37.96
Dongguan Unique Life Furniture Co., Ltd. also known as Unique Life Furniture Co., Ltd (trade name) | Dongguan Unique Life Furniture Co., Ltd | 48.50 | 37.96
Dorbest Ltd | Rui Feng Woodwork (Dongguan) Co., Ltd | 48.50 | 37.96
EZIDONE DISPLAY CORPORATION LTD | EZIDONE DISPLAY CORPORATION LTD | 48.50 | 37.96
EZIDONE DISPLAY CORPORATION LTD | EZIDONE DISPLAY INC | 48.50 | 37.96
Forcer International Limited | QUFU XINYU FURNITURE CO., LTD | 48.50 | 37.96
Forcer International Limited | LINYI RUNKANG CABINET CO., LTD | 48.50 | 37.96
Forcer International Limited | BEIJING OULU JINXIN INTERNATIONAL TRADE CO., LTD | 48.50 | 37.96
Foshan City Shunde District Refined Furniture Co., Ltd. also known as Refined Furniture Co., Ltd. (trade name) | Foshan City Shunde District Refined Furniture Co., Ltd. also known as Refined Furniture Co., Ltd. (trade name) | 48.50 | 37.96
Foshan Liansu building material Trading Co., Ltd | Guangdong Lesso Home Furnishing Co., Ltd | 48.50 | 37.96
FOSHAN NANHAI HONGZHOU WOOD CO., LTD | FOSHAN NANHAI HONGZHOU WOOD CO., LTD | 48.50 | 37.96
Foshan Shunde Yajiasi Kitchen Cabinet Co., Ltd | Foshan Shunde Yajiasi Kitchen Cabinet Co., Ltd | 48.50 | 37.96
FOSHAN SOURCEVER (CN) CO., LIMITED | FOSHAN DIBIAO BATHROOM CO., LTD | 48.50 | 37.96
FOSHAN SOURCEVER (CN) CO., LIMITED | FOSHAN MK HOME FURISHING CO., LTD | 48.50 | 37.96
FOSHAN SOURCEVER (CN) CO., LIMITED | PROUDER INDUSTRIAL LIMITED | 48.50 | 37.96
FOSHAN SOURCEVER (CN) CO., LIMITED | FOSHAN DEMAX SANITARY WARE CO., LTD | 48.50 | 37.96
FOSHAN SOURCEVER (CN) CO., LIMITED | HEBEI SHUANGLI FURNITURE CO., LTD | 48.50 | 37.96
FOSHAN SOURCEVER (CN) CO., LIMITED | ZHANGZHOU GUOHUI INDUSTRIAL & TRADE CO., LTD | 48.50 | 37.96
FOSHAN SOURCEVER (CN) CO., LIMITED | SHOUGUANG FUSHI WOOD CO., LTD | 48.50 | 37.96
FOSHAN SOURCEVER (CN) CO., LIMITED | Foshan Virtu Bathroom Furniture Ltd | 48.50 | 37.96
FOSHAN SOURCEVER (CN) CO., LIMITED | Guangdong Purefine Kitchen & Bath Technology Co., LTD | 48.50 | 37.96
FOSHAN SOURCEVER (CN) CO., LIMITED | KAIPING HONGITARYWARE TECHNOLOGY LTD | 48.50 | 37.96
Foshan Sourcever Company Limited | FOSHAN DIBIAO BATHROOM CO., LTD | 48.50 | 37.96
Foshan Sourcever Company Limited | FOSHAN MK HOME FURISHING CO., LTD | 48.50 | 37.96
Foshan Sourcever Company Limited | PROUDER INDUSTRIAL LIMITED | 48.50 | 37.96
Foshan Sourcever Company Limited | FOSHAN DEMAX SANITARY WARE CO., LTD | 48.50 | 37.96
Foshan Sourcever Company Limited | HEBEI SHUANGLI FURNITURE CO., LTD | 48.50 | 37.96
Foshan Sourcever Company Limited | ZHANGZHOU GUOHUI INDUSTRIAL & TRADE CO., LTD | 48.50 | 37.96
Foshan Sourcever Company Limited | SHOUGUANG FUSHI WOOD CO., LTD | 48.50 | 37.96
Foshan Sourcever Company Limited | Foshan Virtu Bathroom Furniture Ltd | 48.50 | 37.96
Foshan Sourcever Company Limited | Guangdong Purefine Kitchen & Bath Technology Co., LTD | 48.50 | 37.96
Foshan Sourcever Company Limited | KAIPING HONGITARYWARE TECHNOLOGY LTD | 48.50 | 37.96
Foshan Xinzhongwei Economic & Trade Co., Ltd | Foshan Lihong Furniture Sanitary Ware Co., Ltd | 48.50 | 37.96
FUJIAN DUSHI WOODEN INDUSTRY CO., LTD | FUJIAN DUSHI WOODEN INDUSTRY CO., LTD | 48.50 | 37.96
FUJIAN LEIFENG CABINETRY CO., LTD | FUJIAN LEIFENG CABINETRY CO., LTD | 48.50 | 37.96
Fujian Panda Home Furnishing Co., Ltd | Fujian Panda Home Furnishing Co., Ltd | 48.50 | 37.96
Fujian Senyi Kitchen Cabinet Co., Ltd | Fujian Senyi Kitchen Cabinet Co., Ltd | 48.50 | 37.96
Fuzhou Biquan Trading Co., Ltd | Biquan (Fujian) Group Co., Ltd | 48.50 | 37.96
Fuzhou CBM Import & Export Co., Ltd | Fuzhou CBM Import & Export Co., Ltd | 48.50 | 37.96
Fuzhou Desource Home Décor Co., Ltd | Fuzhou Desource Home Decor Co., Ltd | 48.50 | 37.96
FUZHOU LIMIN STONE PRODUCTS CO., LTD | Fuzhou YST Cabinet Co., Ltd | 48.50 | 37.96
FUZHOU MASTONE IMPORT & EXPORT CO., LTD | Fuzhou Yuansentai Cabinet Co., Ltd | 48.50 | 37.96
Fuzhou Minlian Wood Industry Co., Ltd | Fuzhou Minlian Wood Industry Co., Ltd | 48.50 | 37.96
FUZHOU SUNRISING HOME DECO MANUFACTURING CO., LTD | FUZHOU SUNRISING HOME DECO MANUFACTURING CO., LTD | 48.50 | 37.96
FUZHOU XINRUI CABINET CO., LTD | FUZHOU XINRUI CABINET CO., LTD | 48.50 | 37.96
Gaomi City Haitian Wooden Ware Co., Ltd | Gaomi City Haitian Wooden Ware Co., Ltd | 48.50 | 37.96
GAOMI HONGTAI HOME FURNITURE CO., LTD | GAOMI HONGTAI HOME FURNITURE CO., LTD | 48.50 | 37.96
Guangde Bozhong Trade Company, Ltd | Guangde Bozhong Trade Company, Ltd | 48.50 | 37.96
GUANGDONG CACAR KITCHEN TECHNOLOGY CO., LTD | GUANGDONG CACAR KITCHEN TECHNOLOGY CO., LTD | 48.50 | 37.96
Guangdong G-Top Import and Export Co., Ltd | Foshan Shunde Rongao Furniture CO., LTD | 48.50 | 37.96
Guangzhou Nuolande Import and Export Co., Ltd | Guangzhou Nuolande Import and Export Co., Ltd | 48.50 | 37.96
Haiyang Kunlun Wood Co., Ltd | Haiyang Kunlun Wood Co., Ltd | 48.50 | 37.96
Hangzhou Bestcraft Sanitary Equipments Co., Ltd | Hangzhou Bestcraft Sanitary Equipments Co., Ltd | 48.50 | 37.96
Hangzhou Entop Houseware Co., Ltd | Jinhua Aonika Sanitary Ware Co., Ltd | 48.50 | 37.96
Hangzhou Entop Houseware Co., Ltd | Hangzhou Bestcraft Sanitary Equipments Co., Ltd | 48.50 | 37.96
Hangzhou Hansen Sanitary Ware Co., Ltd | Hangzhou Hansen Sanitary Ware Co., Ltd | 48.50 | 37.96
Hangzhou Hoca Kitchen & Bath Products Co., Ltd | Hangzhou Hoca Kitchen & Bath Products Co., Ltd | 48.50 | 37.96
Hangzhou Home Dee Sanitary Ware Co., Ltd | Hangzhou Home Dee Sanitary Ware Co., Ltd | 48.50 | 37.96
Hangzhou Oulang Bathroom Equipment Co., Ltd | Hangzhou Oulang Bathroom Equipment Co., Ltd | 48.50 | 37.96
Hangzhou Royo Import & Export Co., Ltd | Jinhua Aonika Sanitary Ware Co., Ltd | 48.50 | 37.96
Hangzhou Royo Import & Export Co., Ltd | Hangzhou Yuxin Sanitary Ware Co., Ltd | 48.50 | 37.96
Hangzhou Royo Import & Export Co., Ltd | Hangzhou Fuyang Beautiful Sanitary Ware Co., Ltd | 48.50 | 37.96
Hangzhou Sunlight Sanitary Co., Ltd | Hangzhou Sunlight Sanitary Co., Ltd | 48.50 | 37.96
Hangzhou Weinuo Sanitary Ware Co., Ltd | PINGHU AIPA SANITARY WARE CO., LTD | 48.50 | 37.96
Hangzhou Weinuo Sanitary Ware Co., Ltd | HANGZHOU QILONG SANITARY WARE CO., LTD | 48.50 | 37.96
Hangzhou Xinhai Sanitary Ware Co., Ltd | Hangzhou Xinhai Sanitary Ware Co., Ltd | 48.50 | 37.96
Hangzhou Yewlong Import&Export Co., Ltd | Hangzhou Yewlong Industry Co., Ltd | 48.50 | 37.96
Hangzhou Zhuangyu Import & Export Co., Ltd | Hangzhou Zhuangyu Import & Export Co., Ltd | 48.50 | 37.96
Henan Aotin Home Furnishing Co., Ltd | Henan Aotin Home Furnishing Co., Ltd | 48.50 | 37.96
Heyond Cabinet Co., Ltd | Heyond Cabinet Co., Ltd | 48.50 | 37.96
Homestar Corporation | Homestar Corporation | 48.50 | 37.96
HONG KONG JIAN CHENG TRADING CO., LIMITED | ZHONGSHAN YAYUE FURNITURE CO., LTD | 48.50 | 37.96
Xiamen Honglei Imp.&Exp. Co., Ltd. also known as Honglei (Xiamen) Stone Co., Ltd | Changtai Guanjia Industry & Trade Company Co., Ltd | 48.50 | 37.96
Xiamen Honglei Imp.&Exp. Co., Ltd. also known as Honglei (Xiamen) Stone Co., Ltd | Zhangzhou Huihua Industry and Trade Co., Ltd | 48.50 | 37.96
Xiamen Honglei Imp.&Exp. Co., Ltd. also known as Honglei (Xiamen) Stone Co., Ltd | Fujian Xinanlong Wood Industry Co., Ltd | 48.50 | 37.96
Honsoar New Building Material Co., Ltd | Shandong Honsoar Cabinet Materials Co., Ltd | 48.50 | 37.96
Hua Yin Trading Development Co., Ltd of Jiangmen City | Jianfa Wooden Co., Ltd | 48.50 | 37.96
Hua Yin Trading Development Co., Ltd of Jiangmen City | Heshan Yingmei Cabinets Co., Ltd | 48.50 | 37.96
Hua Yin Trading Development Co., Ltd of Jiangmen City | Hesha Feiqiu Cabinet Co., Ltd | 48.50 | 37.96
Huimin Hanlong Furniture Co., Ltd | Huimin Hanlong Furniture Co., Ltd | 48.50 | 37.96
HUISEN FURNITURE (LONG NAN) CO., LTD. also known as HUISEN FURNITURE (LONGNAN) CO., LTD | HUISEN FURNITURE (LONG NAN) CO., LTD. also known as HUISEN FURNITURE (LONGNAN) CO., LTD | 48.50 | 37.96
HUIZHOU MANDARIN FURNITURE CO., LTD | HUIZHOU MANDARIN FURNITURE CO., LTD | 48.50 | 37.96
Jiang Su Rongxin Cabinets Ltd | Jiang Su Rongxin Cabinets Ltd | 48.50 | 37.96
Jiangmen Kinwai Furniture Decoration Co., Ltd | Jiangmen Kinwai Furniture Decoration Co., Ltd | 48.50 | 37.96
Jiangmen Kinwai International Furniture Co., Ltd | Jiangmen Kinwai International Furniture Co., Ltd | 48.50 | 37.96
Jiangsu Beichen Wood Co., Ltd | Jiangsu Beichen Wood Co., Ltd | 48.50 | 37.96
Jiangsu Meijun Intelligent Home Co., Ltd | Jiangsu Meijun Intelligent Home Co., Ltd | 48.50 | 37.96
Jiangsu Pusite Furniture Co., Ltd | Jiangsu Pusite Furniture Co., Ltd | 48.50 | 37.96
Jiangsu Roc Furniture Industrial Co., Ltd | Jiangsu Roc Furniture Industrial Co., Ltd | 48.50 | 37.96
JIANGSU SUNWELL CABINETRY CO., LTD | JIANGSU SUNWELL CABINETRY CO., LTD | 48.50 | 37.96
JIANGSU WEISEN HOUSEWARE CO., LTD | JIANGSU WEISEN HOUSEWARE CO., LTD | 48.50 | 37.96
Jiangsu Xiangsheng Bedtime Furniture Co., Ltd | Jiangsu Xiangsheng Bedtime Furniture Co., Ltd | 48.50 | 37.96
Jiayuan (Xiamen) Industrial Co., Ltd | Jiayuan (Xiamen) Industrial Co., Ltd | 48.50 | 37.96
JINJIANG PERFECT GENERATION IMP.&EXP. CO., LTD | Homebi Technology Co., LTD | 48.50 | 37.96
King's Group Furniture (Enterprises) Co., Ltd | Zhongshan King's Group Furniture (ENTERPRISES) Co., Ltd | 48.50 | 37.96
KM Cabinetry Co., Limited | Zhongshan KM Cabinetry Co., Ltd | 48.50 | 37.96
Kunshan Baiyulan Furniture Co., Ltd | Kunshan Baiyulan Furniture Co., Ltd | 48.50 | 37.96
Kunshan Home Right Trade Corporation | Kunshan Fangs Furniture Co., Ltd | 48.50 | 37.96
LIANYUNGANG SUN RISE TECHNOLOGY CO., LTD | LIANYUNGANG SUN RISE TECHNOLOGY CO., LTD | 48.50 | 37.96
Linshu Meibang Furniture Co., Ltd | Linshu Meibang Furniture Co., Ltd | 48.50 | 37.96
Linyi Bomei Furniture Co., Ltd | Linyi Bomei Furniture Co., Ltd | 48.50 | 37.96
LINYI BONN FLOORING MANUFACTURING CO., LTD | LINYI BONN FLOORING MANUFACTURING CO., LTD | 48.50 | 37.96
Linyi Kaipu Furniture Co., Ltd | Linyi Kaipu Furniture Co., Ltd | 48.50 | 37.96
Linyi Runkang Cabinet Co., Ltd | Linyi Runkang Cabinet Co., Ltd | 48.50 | 37.96
Liu Shu Woods Product (Huizhou) Co., Ltd also known as Liu Shu Wood Products Co., Ltd (trade name) and Liu Shu Woods Product Co., Ltd (trade name) | Liu Shu Woods Product (Huizhou) Co., Ltd | 48.50 | 37.96
Master Door & Cabinet Co., Ltd | Master Door & Cabinet Co., Ltd | 48.50 | 37.96
Masterwork Cabinetry Company Limited | Shandong Compete Wood Co., Ltd | 48.50 | 37.96
Masterwork Cabinetry Company Limited | Linyi Zhongsheng Jiaju Zhuangshi Co., Ltd | 48.50 | 37.96
MEILIN WOOD PRODUCTS (DALIAN) CO., LTD | MEILIN WOOD PRODUCTS (DALIAN) CO., LTD | 48.50 | 37.96
Minhou Beite Home Decor Co., Ltd | Minhou Beite Home Decor Co., Ltd | 48.50 | 37.96
MJB Supply (Dalian) Co., Ltd | Mulin City Bamiantong Linyeju Jisen Wood | 48.50 | 37.96
MOREWOOD CABINETRY CO., LTD | MOREWOOD CABINETRY CO., LTD | 48.50 | 37.96
Nanjing Kaylang Co., Ltd | Nanjing Kaylang Co., Ltd | 48.50 | 37.96
Nantong Aershin Cabinets Co., Ltd | Nantong Aershin Cabinets Co., Ltd | 48.50 | 37.96
Nantong Ouming Wood Co., Ltd., also known as Nantong Ouming Wood Industry Co., Ltd | Nantong Ouming Wood Co., Ltd., also known as Nantong Ouming Wood Industry Co., Ltd | 48.50 | 37.96
NANTONG YANGZI FURNITURE CO., LTD | NANTONG YANGZI FURNITURE CO., LTD | 48.50 | 37.96
NINGBO KINGWOOD FURNITURE CO., LTD | NINGBO KINGWOOD FURNITURE CO., LTD | 48.50 | 37.96
NINGBO ROVSA HOME FURNISHING CO., LTD | NINGBO ROVSA HOME FURNISHING CO., LTD | 48.50 | 37.96
Ojans Company Limited | Foshan Shunde Ojans Intelligent Sanitary Ware Co., Ltd | 48.50 | 37.96
Oppein Home Group Inc | Oppein Home Group Inc | 48.50 | 37.96
PIZHOU OUYME IMPORT&EXPORT TRADE CO., LTD | XUZHOU OUMEC WOOD-BASED PANEL CO., LTD | 48.50 | 37.96
Pneuma Asia Sourcing & Trading Co. LIMITED | Dalian Tianxin Home Product Co., Ltd | 48.50 | 37.96
Pneuma Asia Sourcing & Trading Co. LIMITED | Qingdao Haiyan Drouot Household Co., Ltd | 48.50 | 37.96
Putian Jinggong Furniture Co., Ltd | Putian Jinggong Furniture Co., Ltd | 48.50 | 37.96
Qingdao Coomex Sources Co., Ltd. also known as Coomex Sources Co., Ltd | Nantong Aershin Cabinets Co., Ltd | 48.50 | 37.96
Qingdao Haiyan Drouot Household Co., Ltd | Qingdao Haiyan Drouot Household Co., Ltd | 48.50 | 37.96
Qingdao Liangmu Hongye Co., Ltd | Qingdao Liangmu Hongye Co., Ltd | 48.50 | 37.96
Qingdao Liangmu Jinshan Woodwork Co., Ltd | Qingdao Liangmu Jinshan Woodwork Co., Ltd | 48.50 | 37.96
Qingdao Northriver Wooden Resource Industry & Trading Co., Ltd | Lankao Sanqiang Wooden Products Co., Ltd | 48.50 | 37.96
Qingdao Northriver Wooden Resource Industry & Trading Co., Ltd | Linyi Lanshan Chengxinli Woods Co., Ltd | 48.50 | 37.96
Qingdao Northriver Wooden Resource Industry & Trading Co., Ltd | Shouguang Shi Qifeng Woods Co., Ltd | 48.50 | 37.96
Qingdao Northriver Wooden Resource Industry & Trading Co., Ltd | Linyi Mingzhu Woods Co., Ltd | 48.50 | 37.96
Qingdao Northriver Wooden Resource Industry & Trading Co., Ltd | Yichun Senhai Woods Industry Co., Ltd | 48.50 | 37.96
Qingdao Northriver Wooden Resource Industry & Trading Co., Ltd | Linyi Jinde Arts&Crafts Co., Ltd | 48.50 | 37.96
Qingdao Northriver Wooden Resource Industry & Trading Co., Ltd | Qingdao Ruirong Woods Co., Ltd | 48.50 | 37.96
Qingdao Shousheng Industry Co., Ltd | Qingdao Shousheng Industry Co., Ltd | 48.50 | 37.96
Qingdao Yimei Wood Work Co., Ltd | Qingdao Yimei Wood Work Co., Ltd | 48.50 | 37.96
QINGDAOHONGXINCHENGDA WOOD INDUSTRY CO., LTD | QINGDAOHONGXINCHENGDA WOOD INDUSTRY CO., LTD | 48.50 | 37.96
QUFU XINYU FURNITURE CO., LTD | QUFU XINYU FURNITURE CO., LTD | 48.50 | 37.96
Ronbow Hong Kong Limited | Wuxi Yusheng Kitchen-Bathroom Equipment Co., Ltd | 48.50 | 37.96
Sagarit Bathroom Manufacturer Limited | Shouguang Fushi Wood Co., Ltd | 48.50 | 37.96
Sagarit Bathroom Manufacturer Limited | Zhangzhou Guohui Industrial & Trade Co., Ltd | 48.50 | 37.96
Sagarit Bathroom Manufacturer Limited | Qingdao Runpeng Wood Industrial Co., Ltd | 48.50 | 37.96
Sankok Arts Co., Ltd | Sankok Arts Co., Ltd | 48.50 | 37.96
Senke Manufacturing Company | Qindao Yimei Wood Work Co., Ltd | 48.50 | 37.96
Senke Manufacturing Company | Linyi Kaipu Furniture Co., Ltd | 48.50 | 37.96
Senke Manufacturing Company | Shandon Honsoar Cabinetry Co., Ltd | 48.50 | 37.96
Senke Manufacturing Company | Huimin Hanlong Furniture Co, Ltd | 48.50 | 37.96
Shandong Cubic Alpha Timber Co., Ltd | Shandong Cubic Alpha Timber Co., Ltd | 48.50 | 37.96
Shandong Fusheng Wood Co., Ltd | Shandong Fusheng Wood Co., Ltd | 48.50 | 37.96
Shandong Huanmei Wood Co., Ltd | Shandong Huanmei Wood Co., Ltd | 48.50 | 37.96
SHANDONG JINGYAO HOME DECORATION PRODUCTS CO., LTD | SHANDONG JINGYAO HOME DECORATION PRODUCTS CO., LTD | 48.50 | 37.96
Shandong Longsen Woods Co., Ltd | Shandong Longsen Woods Co., Ltd | 48.50 | 37.96
Shandong Sanfortune Home and Furniture Co., Ltd | Shandong Sanfortune Home and Furniture Co., Ltd | 48.50 | 37.96
Shanghai Aiwood Home Supplies Co., Ltd | Jiangsu Gangxing Kitchen Cabinet Co., Ltd | 48.50 | 37.96
Shanghai Aiwood Home Supplies Co., Ltd | Shanghai Homebase SanSheng Household Product Co., Ltd | 48.50 | 37.96
Shanghai Baiyulan Furniture Co., Ltd | Kunshan Baiyulan Furniture Co., Ltd | 48.50 | 37.96
Shanghai Beautystar Cabinetry Co., Ltd | Jiangsu Sunwell Cabinetry Co., Ltd | 48.50 | 37.96
Shanghai Beautystar Cabinetry Co., Ltd | Nantong Jiegao Furniture Co., Ltd | 48.50 | 37.96
Shanghai Jiang Feng Furniture Co., Ltd | Shanghai Jiang Feng Furniture Co., Ltd | 48.50 | 37.96
SHANGHAI LINE KING INTERNATIONAL TRADING CO., LTD | SHANGHAI YAZHI WOODEN INDUSTRY CO., LTD | 48.50 | 37.96
Shanghai Mebo Industry Co., Ltd | Shanghai Mebo Industry Co., Ltd | 48.50 | 37.96
Shanghai Qingzhou Woodenware Co., Ltd | Shanghai Qingzhou Woodenware Co., Ltd | 48.50 | 37.96
Shanghai S&M Trade Co., Ltd | Anhui GeLun Wood Industry Co., Ltd | 48.50 | 37.96
Shanghai S&M Trade Co., Ltd | Ning'an City Jiude Wood Co., Ltd | 48.50 | 37.96
Shanghai S&M Trade Co., Ltd | Muling City Bamiantong Forestry Bureau Jisen Wood Co., Ltd | 48.50 | 37.96
Shanghai S&M Trade Co., Ltd | Dalian Ruiyu Mountain Wood Co., Ltd | 48.50 | 37.96
Shanghai S&M Trade Co., Ltd | Linshu Meibang Furniture Co., Ltd | 48.50 | 37.96
Shanghai S&M Trade Co., Ltd | Jiamusi City Quanhong Wood Industry Co., Ltd | 48.50 | 37.96
Shanghai S&M Trade Co., Ltd | Kunshan Fangs Furniture Co., Ltd | 48.50 | 37.96
Shanghai S&M Trade Co., Ltd | Dalian Chunyao Wood Industry Co., Ltd | 48.50 | 37.96
Shanghai S&M Trade Co., Ltd | Anhui Juxin Wood Industry Co., Ltd | 48.50 | 37.96
Shanghai Wang Lei Industries—Taicang Branch | Shanghai Wang Lei Industries—Taicang Branch | 48.50 | 37.96
Shanghai Wen Bo Industries Co. Ltd | Shanghai Yinbo Manufacturing Co. Ltd | 48.50 | 37.96
Shanghai Wen Bo Industries Co. Ltd | Dalian Jiaye Wood Products Co., Ltd | 48.50 | 37.96
Shanghai Wen Bo Industries Co. Ltd | Shanghai Baiyulan Furniture Co., Ltd | 48.50 | 37.96
Shanghai Xietong (Group) Co., Ltd | Nantong Jiegao Furniture Co., Ltd | 48.50 | 37.96
Shanghai Xietong (Group) Co., Ltd | Jiangsu Senwei Smart Home Co., Ltd | 48.50 | 37.96
SHANGHAI ZIFENG INTERNATIONAL TRADING CO., LTD | SHANDONG GAINVAST WOODEN PRODUCTS CO., LTD | 48.50 | 37.96
SHANGHAI ZIFENG INTERNATIONAL TRADING CO., LTD | SHANGHAI WENYI WOODEN CO., LTD | 48.50 | 37.96
SHANGHAI ZIFENG INTERNATIONAL TRADING CO., LTD | NAN TONG DI LIN FURNITURE CO., LTD | 48.50 | 37.96
SHANGHAI ZIFENG INTERNATIONAL TRADING CO., LTD | JIANGSU YANAN WOODEN CO., LTD | 48.50 | 37.96
Sheen Lead International Trading (Shanghai)Co., Ltd | SHANGHAI RUIYING FURNITURE CO., LTD | 48.50 | 37.96
Shouguang Fushi Wood Co., Ltd | Shouguang Fushi Wood Co., Ltd | 48.50 | 37.96
Shouguang Honsoar Imp. & Exp. Trading Co., Ltd | Shandong Honsoar Cabinet Materials Co., Ltd | 48.50 | 37.96
SHOUGUANG JIAXIU WOOD CO., LTD | SHOUGUANG JIAXIU WOOD CO., LTD | 48.50 | 37.96
SHOUGUANG JIAXIU WOOD CO., LTD | SHOUGUANG JIAXIU WOOD CO., LTD | 48.50 | 37.96
Shouguang Jinxiangyuan Home Furnishing Co., Ltd | Shouguang Jinxiangyuan Home Furnishing Co., Ltd | 48.50 | 37.96
Shouguang Sanyang Wood Industry Co., Ltd | Shouguang Sanyang Wood Industry Co., Ltd | 48.50 | 37.96
Silver Stone Group Co., Ltd | QINGDAO FAMILY CRAFTS CO., LTD | 48.50 | 37.96
Silver Stone Group Co., Ltd | QingDao XiuZhen Furniture Co., Ltd | 48.50 | 37.96
Smart Gift International | Anhui GeLun Wood Industry Co., Ltd | 48.50 | 37.96
Smart Gift International | Ning'an City Jiude Wood Co., Ltd | 48.50 | 37.96
Smart Gift International | Muling City Bamiantong Forestry Bureau Jisen Wood Co., Ltd | 48.50 | 37.96
Smart Gift International | Dalian Ruiyu Mountain Wood Co., Ltd | 48.50 | 37.96
Smart Gift International | Jiamusi City Quanhong Wood Industry Co., Ltd | 48.50 | 37.96
Smart Gift International | Dalian Chunyao Wood Industry Co., Ltd | 48.50 | 37.96
SUNCO TIMBER(KUNSHAN) CO., LTD | SUNCO TIMBER(KUNSHAN) CO., LTD | 48.50 | 37.96
Supree (Fujian) Wood Co., Ltd | Supree (Fujian) Wood Co., Ltd | 48.50 | 37.96
Supree (Fujian) Construction Materials Co., Ltd | Supree (Fujian) Construction Materials Co., Ltd | 48.50 | 37.96
SUZHOU BAOCHENG INDUSTRIES CO., LTD | WALLBEYOND (SHUYANG) HOME DECOR CO., LTD | 48.50 | 37.96
Suzhou Five Cubic Wood Co., Ltd | Suzhou Geda Office Equipment Manufacturing Co., Ltd | 48.50 | 37.96
Suzhou Oriental Dragon Import and Export Co., Ltd. also known as Suzhou Oriental Dragon Import and Export Corp., Ltd | Lingbi Xianghe Wood Co., Ltd | 48.50 | 37.96
Tai Yuan Trading Co., Ltd also known as Heshan Tai Yuan Trading Co., Ltd | Heshan Yingmei Cabinet Co., Ltd | 48.50 | 37.96
Taishan Changfa Wood Industry Co., Ltd | Taishan Changfa Wood Industry Co., Ltd | 48.50 | 37.96
TAISHAN HONGXIANG TRADING CO., LTD | Chang He Xing Wood Manufacturer Co., Ltd | 48.50 | 37.96
TAISHAN HONGXIANG TRADING CO., LTD | Heshan Yingmei Cabinets Co., Ltd | 48.50 | 37.96
TAISHAN HONGXIANG TRADING CO., LTD | Heshan Feiqiu Cabinet Co., Ltd | 48.50 | 37.96
TAISHAN HONGXIANG TRADING CO., LTD | Yuanwang Wood Product Factory Dajiang Taishan | 48.50 | 37.96
TAISHAN HONGXIANG TRADING CO., LTD | Can-Am Cabinet Ltd | 48.50 | 37.96
Taishan Hongzhou Cabinet Co., Ltd | Taishan Hongzhou Cabinet Co., Ltd | 48.50 | 37.96
Taishan Jiahong Trade Co., Ltd | Taishan Dajiang Town Dutou Wood Furniture Factory | 48.50 | 37.96
Taishan Jiahong Trade Co., Ltd | Foshan Nanhai Jinwei Cabinet Furniture Co., Ltd | 48.50 | 37.96
Taishan Jiahong Trade Co., Ltd | Taishan Huali Kitchen Cabinet Co., Ltd | 48.50 | 37.96
Taishan Jiahong Trade Co., Ltd | Taishan Empire Wood Co., Ltd | 48.50 | 37.96
TAISHAN OVERSEA TRADING COMPANY LTD | TAISHAN GANHUI STONE KITCHEN CO., LTD | 48.50 | 37.96
TAISHAN OVERSEA TRADING COMPANY LTD | Can-Am Cabinet Ltd | 48.50 | 37.96
TAISHAN OVERSEA TRADING COMPANY LTD | TAISHAN QUANMEI KITCHEN WARE CO., LTD | 48.50 | 37.96
TAISHAN OVERSEA TRADING COMPANY LTD | TAISHAN JIAFU CABINET CO., LTD | 48.50 | 37.96
TAISHAN OVERSEA TRADING COMPANY LTD | TAISHAN DAJIANG TOWN DUTOU FURNITURE FACTORY | 48.50 | 37.96
TAISHAN OVERSEA TRADING COMPANY LTD | Feiteng Kitchen Cabinets Taishan Corporation | 48.50 | 37.96
Taizhou Overseas Int'l Ltd | Zhejiang Royal Home Co., Ltd | 48.50 | 37.96
TANGSHAN BAOZHU FURNITURE CO.,LTD | TANGSHAN BAOZHU FURNITURE CO.,LTD | 48.50 | 37.96
Tech Forest Cabinetry Co., Ltd | Tech Forest Cabinetry Co., Ltd | 48.50 | 37.96
The Frame Manufacturing Co. Ltd | HUIZHOU DIWEIXIN JIATINGYONGPIN CO., LTD | 48.50 | 37.96
Top Goal International Group Ltd.(Hong Kong) | Dongguan City Top Goal Furniture Co., Ltd | 48.50 | 37.96
Tradewinds Furniture Ltd | Tradewinds Furniture Ltd | 48.50 | 37.96
Wa Fok Art Craft Furniture (MACAO) Co., Ltd | Zhongshan Huafu Art Craft Furniture Co., Ltd | 48.50 | 37.96
Weifang Fuxing Wood Co., Ltd | Weifang Fuxing Wood Co., Ltd | 48.50 | 37.96
WEIFANG KITCHINET CORPORATION | WEIFANG KITCHINET CORPORATION | 48.50 | 37.96
Weifang Lan Gu Wood Industry Co., Ltd | Weifang Lan Gu Wood Industry Co., Ltd | 48.50 | 37.96
Weifang Master Wood Industry Co., Ltd | Weifang Master Wood Industry Co., Ltd | 48.50 | 37.96
Weifang Yuanlin Woodenware Co., Ltd | Weifang Yuanlin Woodenware Co., Ltd | 48.50 | 37.96
Weihai Adornus Cabinetry Manufacturing Co., Ltd | Weihai Adornus Cabinetry Manufacturing Co., Ltd | 48.50 | 37.96
WEIHAI JARLIN CABINETRY MANUFACTURE CO., LTD | WEIHAI JARLIN CABINETRY MANUFACTURE CO., LTD | 48.50 | 37.96
Wellday International Company Limited also known as Dongguan Wellday Household Co., Ltd | Wellday International Company Limited also known as Dongguan Wellday Household Co., Ltd | 48.50 | 37.96
Wenzhou Youbo Industrial Co., Ltd | Wenzhou Youbo Industrial Co., Ltd | 48.50 | 37.96
Wuxi Yushea Furniture Co., Ltd | Wuxi Yushea Furniture Co., Ltd | 48.50 | 37.96
Wuxi Yusheng Kitchen-Bathroom Equipment Co., Ltd | Wuxi Yusheng Kitchen-Bathroom Equipment Co., Ltd | 48.50 | 37.96
Xiamen Adler Cabinetry Co., Ltd | Xiamen Adler Cabinetry Co., Ltd | 48.50 | 37.96
XIAMEN GOFOR STONE CO., LTD | KAICHENG (FUJIAN) KITCHEN CABINET CO., LTD | 48.50 | 37.96
XIAMEN GOLDEN HUANAN IMP.& EXP. CO., LTD | Changtai Guanjia Industrial Co., Ltd | 48.50 | 37.96
XIAMEN GOLDENHOME CO., LTD | XIAMEN GOLDENHOME CO., LTD | 48.50 | 37.96
XIAMEN KAICHENG TRADING LIMITED COMPANY | KAICHENG (FUJIAN) KITCHEN CABINET CO., LTD | 48.50 | 37.96
Xiamen Sintop Display Fixtures Co., Ltd | Xiamen Sintop Display Fixtures Co., Ltd | 48.50 | 37.96
XINGZHI INTERNATIONAL TRADE LIMITED | XUZHOU YIHE WOOD CO., LTD | 48.50 | 37.96
XUZHOU JIA LI DUO IMPORT&EXPORT CO., LTD | XUZHOU OUMEC WOOD-BASED PANEL CO., LTD | 48.50 | 37.96
XUZHOU YIHE WOOD CO., LTD | XUZHOU YIHE WOOD CO., LTD | 48.50 | 37.96
YEKALON INDUSTRY, INC | DONGGUAN TODA FURNITURE CO., LTD | 48.50 | 37.96
YEKALON INDUSTRY, INC | GUANGZHOUSHI BAISEN DECORATIVE MATERIALS COMPANY LIMITED | 48.50 | 37.96
YEKALON INDUSTRY, INC | DONGGUAN FANYANUO FURNITURE CO., LTD | 48.50 | 37.96
YEKALON INDUSTRY, INC | DONGGUANSHI ANKE BUILDING MATERIALS CO., LTD | 48.50 | 37.96
YEKALON INDUSTRY, INC | Oriental Chic Furniture Company Limited | 48.50 | 37.96
YEKALON INDUSTRY, INC | DONGGUAN FRANCISS FURNITURE CO., LTD | 48.50 | 37.96
YEKALON INDUSTRY, INC | SHANGHAI YUANYANG WOODEN CO., LTD | 48.50 | 37.96
Yi Sen Wood Industry Limited Company of Ning An City | Yi Sen Wood Industry Limited Company of Ning An City | 48.50 | 37.96
Yichun Dongmeng Wood Co., Ltd | Yichun Dongmeng Wood Co., Ltd | 48.50 | 37.96
Yichun Dongmeng Wood Co., Ltd | Qingdao Dimei Wood Co., Ltd | 48.50 | 37.96
Yichun Sunshine Wood Products Co., Ltd | Yichun Sunshine Wood Products Co., Ltd | 48.50 | 37.96
Yixing Pengjia Cabinetry Co. Ltd | Yixing Pengjia Cabinetry Co. Ltd | 48.50 | 37.96
Zhangjiagang Daye Hotel Furniture Co., Ltd | Zhangjiagang Daye Hotel Furniture Co., Ltd | 48.50 | 37.96
ZHANGJIAGANG PRO-FIXTURE CO., LTD | Zhangjiagang Yuanjiahe Home Furniture Co., Ltd | 48.50 | 37.96
ZHANGZHOU CITY XIN JIA HUA FURNITURE CO., LTD | ZHANGZHOU CITY XIN JIA HUA FURNITURE CO., LTD | 48.50 | 37.96
Zhangzhou Guohui Industrial & Trade Co., Ltd | Zhangzhou Guohui Industrial & Trade Co., Ltd | 48.50 | 37.96
Zhangzhou OCA Furniture Co., Ltd | Zhangzhou OCA Furniture Co., Ltd | 48.50 | 37.96
Zhaoqing Centech Decorative Material Company Ltd | Zhaoqing Centech Decorative Material Company Ltd | 48.50 | 37.96
Zhejiang Jindi Holding Group Co., Ltd | Zhejiang Jindi Holding Group Co., Ltd | 48.50 | 37.96
Zhong Shan Shi Yicheng Furniture & Craftwork Co., Ltd | Zhong Shan Shi Yicheng Furniture & Craftwork Co., Ltd | 48.50 | 37.96
Zhong Shan Yue Qin Imp. & Exp. Co., Ltd | Zhongshan Jinpeng Furniture Co., Ltd | 48.50 | 37.96
Zhongshan City Shenwan Meiting Furniture Factory | Zhongshan City Shenwan Meiting Furniture Factory | 48.50 | 37.96
Zhongshan Fookyik Furniture Co., Ltd | Zhongshan Fookyik Furniture Co., Ltd | 48.50 | 37.96
ZHONGSHAN GAINWELL FURNITURE CO., LTD | ZHONGSHAN GAINWELL FURNITURE CO., LTD | 48.50 | 37.96
Zhongshan Guanda Furniture Manufacturing Co., Ltd also known as Guanda Furniture Co., Ltd | Zhongshan Guanda Furniture Manufacturing Co., Ltd | 48.50 | 37.96
ZHONGSHAN HENGFU FURNITURE COMPANY LIMITED | ZHONGSHAN HENGFU FURNITURE COMPANY LIMITED | 48.50 | 37.96
Zhongshan King's Group Furniture (ENTERPRISES) Co., Ltd | Zhongshan King's Group Furniture (ENTERPRISES) Co., Ltd | 48.50 | 37.96
Zhoushan For-strong Wood Co., Ltd | Zhoushan For-strong Wood Co., Ltd | 48.50 | 37.96
Zhoushan For-strong Wood Co., Ltd | Shanghai Wanmuda Furniture Co., Ltd | 48.50 | 37.96
Zhucheng Tonghe Woodworks Co., ltd | Zhucheng Tonghe Woodworks Co., ltd | 48.50 | 37.96
Zhuhai Seagull Kitchen and Bath Products Co., Ltd | Zhuhai Seagull Kitchen and Bath Products Co., Ltd | 48.50 | 37.96
ZIEL INTERNATIONAL CO., LIMITED | DONGGUAN FANG CHENG FURNITURE LTD | 48.50 | 37.96
ZIEL INTERNATIONAL CO., LIMITED | ZhongShan PRO-YEARN Crafts Product Co., Ltd | 48.50 | 37.96
ZIEL INTERNATIONAL CO., LIMITED | FUJIAN NEWMARK INDUSTRIAL CO., LTD | 48.50 | 37.96
ZIEL INTERNATIONAL CO., LIMITED | Fuzhou Zhonghe Houseware CO., LTD | 48.50 | 37.96
ZIEL INTERNATIONAL CO., LIMITED | MING LIANG FURNITURE PRODUCT CO., LTD | 48.50 | 37.96
ZIEL INTERNATIONAL CO., LIMITED | XIANJU JUNYANG HOUSEHOLD PRODUCTS CO., LTD | 48.50 | 37.96
ZIEL INTERNATIONAL CO., LIMITED | DongGuan HeTai Homewares CO., LTD | 48.50 | 37.96
ZIEL INTERNATIONAL CO., LIMITED | CHENG TONG HARDWARE RPODUCT LTD | 48.50 | 37.96
ZIEL INTERNATIONAL CO., LIMITED | Nantong Jon Ergonomic office Co., Ltd | 48.50 | 37.96
China-Wide Entity |  | 262.18 | 251.64

Provisional Measures

Section 733(d) of the Act states that instructions issued pursuant to an affirmative preliminary determination may not remain in effect for more than four months, except where exporters representing a significant proportion of exports of the subject merchandise request Commerce extended the four-month period to no more than six-months. At the request of exporters that account for a significant proportion of wooden cabinets and vanities from China, Commerce extended the four-month period to six-months.⁵ In the underlying investigation, Commerce published the preliminary determination on October 9, 2019. Therefore, the extended period, beginning on the date of publication of the Preliminary Determination, ended on April 5, 2020. Furthermore, section 737(b) of the Act states that definitive duties are to begin on the date of publication of the ITC's final injury determination.

⁵ See Preliminary Determination.

Therefore, in accordance with section 733(d) of the Act and our practice, we will instruct CBP to terminate the suspension of liquidation and to liquidate, without regard to antidumping duties, unliquidated entries of wooden cabinets and vanities from China entered, or withdrawn from warehouse, for consumption after April 5, 2020, the date on which the provisional measures expired, until and through the day preceding the date of publication of the ITC's final injury determination in the Federal Register. Suspension of liquidation will resume on the date of publication of the ITC's final determination in the Federal Register.

Notifications to Interested Parties

This notice constitutes the antidumping duty order with respect to wooden cabinets and vanities from China pursuant to section 736(a) of the Act. Interested parties can find a list of antidumping duty orders currently in effect at http://enforcement.trade.gov/stats/iastats1.html.

This order is published in accordance with sections 735(c)(2) and 736(a) of the Act, and 19 CFR 351.211(b).

Dated: April 16, 2020.
Jeffrey I. Kessler,
Assistant Secretary for Enforcement and Compliance.

Appendix

Scope of the Order

The merchandise subject to this order consists of wooden cabinets and vanities that are for permanent installation (including floor mounted, wall mounted, ceiling hung or by attachment of plumbing), and wooden components thereof. Wooden cabinets and vanities and wooden components are made substantially of wood products, including solid wood and engineered wood products (including those made from wood particles, fibers, or other wooden materials such as plywood, strand board, block board, particle board, or fiberboard), or bamboo. Wooden cabinets and vanities consist of a cabinet box (which typically includes a top, bottom, sides, back, base blockers, ends/end panels, stretcher rails, toe kicks, and/or shelves) and may or may not include a frame, door, drawers and/or shelves. Subject merchandise includes wooden cabinets and vanities with or without wood veneers, wood, paper or other overlays, or laminates, with or without non-wood components or trim such as metal, marble, glass, plastic, or other resins, whether or not surface finished or unfinished, and whether or not completed.

Wooden cabinets and vanities are covered by this order whether or not they are imported attached to, or in conjunction with, faucets, metal plumbing, sinks and/or sink bowls, or countertops. If wooden cabinets or vanities are imported attached to, or in conjunction with, such merchandise, only the wooden cabinet or vanity is covered by the scope.

Subject merchandise includes the following wooden component parts of cabinets and vanities: (1) wooden cabinet and vanity frames (2) wooden cabinet and vanity boxes (which typically include a top, bottom, sides, back, base blockers, ends/end panels, stretcher rails, toe kicks, and/or shelves), (3) wooden cabinet or vanity doors, (4) wooden cabinet or vanity drawers and drawer components (which typically include sides, backs, bottoms, and faces), (5) back panels and end panels, (6) and desks, shelves, and tables that are attached to or incorporated in the subject merchandise.

Subject merchandise includes all unassembled, assembled and/or “ready to assemble” (RTA) wooden cabinets and vanities, also commonly known as “flat packs,” except to the extent such merchandise is already covered by the scope of antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR 513 (January 4, 2018). RTA wooden cabinets and vanities are defined as cabinets or vanities packaged so that at the time of importation they may include: (1) wooden components required to assemble a cabinet or vanity (including drawer faces and doors); and (2) parts (e.g., screws, washers, dowels, nails, handles, knobs, adhesive glues) required to assemble a cabinet or vanity. RTAs may enter the United States in one or in multiple packages.

Subject merchandise also includes wooden cabinets and vanities and in-scope components that have been further processed in a third country, including but not limited to one or more of the following: trimming, cutting, notching, punching, drilling, painting, staining, finishing, assembly, or any other processing that would not otherwise remove the merchandise from the scope of the order if performed in the country of manufacture of the in-scope product.

Excluded from the scope of this order, if entered separate from a wooden cabinet or vanity are:

(1) Aftermarket accessory items which may be added to or installed into an interior of a cabinet and which are not considered a structural or core component of a wooden cabinet or vanity. Aftermarket accessory items may be made of wood, metal, plastic, composite material, or a combination thereof that can be inserted into a cabinet and which are utilized in the function of organization/accessibility on the interior of a cabinet; and include:

• Inserts or dividers which are placed into drawer boxes with the purpose of organizing or dividing the internal portion of the drawer into multiple areas for the purpose of containing smaller items such as cutlery, utensils, bathroom essentials, etc.

• Round or oblong inserts that rotate internally in a cabinet for the purpose of accessibility to foodstuffs, dishware, general supplies, etc.

(2) Solid wooden accessories including corbels and rosettes, which serve the primary purpose of decoration and personalization.

(3) Non-wooden cabinet hardware components including metal hinges, brackets, catches, locks, drawer slides, fasteners (nails, screws, tacks, staples), handles, and knobs.

(4) Medicine cabinets that meet all of the following five criteria are excluded from the scope: (1) wall mounted; (2) assembled at the time of entry into the United States; (3) contain one or more mirrors; (4) be packaged for retail sale at time of entry; and (5) have a maximum depth of seven inches.

Also excluded from the scope of the order are:

(1) All products covered by the scope of the antidumping duty order on Wooden Bedroom Furniture from the People's Republic of China. See Notice of Amended Final Determination of Sales at Less Than Fair Value and Antidumping Duty Order: Wooden Bedroom Furniture from the People's Republic of China, 70 FR 329 (January 4, 2005).

(2) All products covered by the scope of the antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR. 513 (January 4, 2018).

Imports of subject merchandise are classified under Harmonized Tariff Schedule of the United States (HTSUS) statistical numbers 9403.40.9060 and 9403.60.8081. The subject component parts of wooden cabinets and vanities may be entered into the United States under HTSUS statistical number 9403.90.7080. Although the HTSUS subheadings are provided for convenience and customs purposes, the written description of the scope of this order is dispositive.

[FR Doc. 2020-08544 Filed 4-20-20; 8:45 am]

BILLING CODE 3510-DS-P